DEPARTMENT OF ENERGY

Federal Energy Regulatory Commission

[Project No. 2146-081; Alabama]

Alabama Power Company; Notice of Availability of Draft Environmental Assessment

August 29, 2000.

A draft environmental assessment (DEA) is available for public review. The DEA analyzes the environmental impacts of a request to revise the rule curve and Interim Flood Control Plan (Interim Plan) filed by Alabama Power Company (APC). In its Interim Plan, APC requests approval of a temporary variance to keep water levels in Neely Henry Reservoir higher during the winter. Neely Henry Reservoir is part of the Coosa River Hydroelectric Project. The reservoir is located in Calhoun, St. Clair and Etowah Counties, Alabama. Currently, lake levels must be maintained at elevation 508 msl from May 1 to October 31; drawn down to elevation 505 msl by about November 7 and maintained at this level until about April 15; then raised to elevation 508 msl by April 30. APC proposes to maintain Neely Henry Reservoir at elevation 508 msl from May 1 to September 30; draw down to elevation 507 msl by November 30 and maintain this level until March 31; then raise back up to elevation 508 msl by May 1. This part of the Interim Plan is for Federal Energy Regulatory Commission (Commission) approval.

In its Interim Plan, APC also requests approval of revised reservoir regulation procedures for Neely Henry Reservoir. The regulation procedures are contained in the Department of Army, Mobile District Corps of Engineer's (Corps) Reservoir Regulation Manual and are used by APC to lower the reservoir in anticipation of a flood. The revised regulation procedures are shown in detail in the DEA. This part of the Interim Plan is for Corps approval.

APC would implement its Interim Plan for up to three years during a trial period. At the end of the trial, APC would decide whether to file an application to make the Interim Plan permanent.

The DEA was written by Commission staff in the Office of Energy Projects in cooperation with Corps staff. Commission and Corps staff believe APC's proposed Interim Plan, pending further review as discussed in the DEA, would not constitute a major federal action significantly affecting the quality of the human environment. Copies of the DEA can be viewed on the web at www.ferc.fed.us/online/rims.htm. Call (202) 208-2222 for assistance. Copies are also available for inspection and reproduction at the Commission's Public Reference Room located at 888 First Street, NE, Room 2A, Washington DC 20426, or by calling (202) 208-1371.

Anyone may file comments on the DEA. The public, federal and state resource agencies are encouraged to provide comments. All comments must be filed within 30 days of the date of this notice shown above. Send an original and eight copies of all comments marked with the project number P-2146-081 to: The Secretary, Federal Energy Regulatory Commission, 888 First Street, NE, Washington, DC 20426. If you have any questions regarding this notice, please call Steve Hocking at (202) 219-2656.

Linwood A. Watson, Jr.,
Acting Secretary.

[FR Doc. 00-22622 Filed 9-01-00; 8:45 am]

BILLING CODE 6717-01-M